DEPARTMENT OF TRANSPORTATION

Federal Aviation Administration

14 CFR Part 39

[Docket No. FAA-2010-0725; Directorate Identifier 2010-NE-18-AD]

RIN 2120-AA64

Airworthiness Directives; Pratt & Whitney PW4000 Series Turbofan Engines; Correction

AGENCY: Federal Aviation Administration (FAA), DOT.

ACTION: Notice of proposed rulemaking (NPRM); correction.

SUMMARY: The FAA is correcting a proposed airworthiness directive (AD) which published in the Federal Register. That proposed AD would apply to Pratt & Whitney PW4000 series turbofan engines. The docket number is incorrect in all three of its locations. This document corrects those references. In all other respects, the original document remains the same.

DATES: This correction is effective July 29, 2010.

FOR FURTHER INFORMATION CONTACT: James Gray, Aerospace Engineer, Engine Certification Office, FAA, Engine and Propeller Directorate, 12 New England Executive Park, Burlington, MA 01803; e-mail: james.e.gray@faa.gov; telephone (781) 238-7742; fax (781) 238-7199.

SUPPLEMENTARY INFORMATION: On June 3, 2010 (75 FR 31330), we published a proposed AD, FR Doc. 2010-13314, in the Federal Register. That proposed AD applies to Pratt & Whitney PW4000 series turbofan engines. We need to make the following correction:

On page 31330, in the third column, under 14 CFR part 39, “Docket No. FAA-2010-0384” is corrected to read “FAA-2010-0725.”

On page 31331, in the first column, under SUPPLEMENTARY INFORMATION, in the sixth and seventh lines, “Docket No. FAA 2010-0384” is corrected to read “FAA-2010-0725.”

On page 31331, in the third column, under § 39.13 [Amended], in the fourth and fifth lines, “Docket No. FAA 2010-0384” is corrected to read “FAA-2010-0725.”

Issued in Burlington, Massachusetts, on July 23, 2010.
Francis A. Favara,
Manager, Engine and Propeller Directorate, Aircraft Certification Service.

[FR Doc. 2010-18628 Filed 7-28-10; 8:45 am]

BILLING CODE 4910-13-P